DEPARTMENT OF ENERGY

Federal Energy Regulatory Commission

Combined Notice of Filings #1

Take notice that the Commission received the following electric corporate filings:

Docket Numbers: EC23-65-000.

Applicants: GC PGR Holdco, LLC, PGR Holdco, LLC, Allora Solar, LLC, PGR 2021 Lessee 19, LLC, Beulah Solar, LLC, PGR 2021 Lessee 2, LLC, TWE Bowman Solar Project, LLC, PGR Lessee L, LLC, Bulldog Solar, LLC, PGR 2021 Lessee 9, LLC, Cabin Creek Solar, LLC, PGR 2021 Lessee 12, LLC, Centerfield Cooper Solar, LLC, PGR Lessee O, LLC, Eastover Solar, LLC, PGR 2021 Lessee 17, LLC, Fresh Air Energy XXIII, LLC, PGR 2022 Lessee 2, LLC, Gunsight Solar, LLC, PGR 2021 Lessee 15, LLC, Highest Power Solar, LLC, PGR 2021 Lessee 7, LLC, Landrace Holdings, LLC, PGR 2021 Lessee 18, LLC, Lick Creek Solar, LLC, PGR 2021 Lessee 5, LLC, Peony Solar, LLC, Phobos Solar, LLC, PGR 2021 Lessee 11, LLC, Sonny Solar, LLC, PGR 2021 Lessee 13, LLC, Stanly Solar, LLC, PGR 2021 Lessee 1, LLC, Sugar Solar, LLC, PGR 2020 Lessee 8, LLC, Trent River Solar, LLC, Trent River Solar Mile Lessee, LLC, Virginia Line Solar, LLC, PGR 2022 Lessee 1, LLC.

Description: Joint Application for Authorization Under Section 203 of the Federal Power Act of GC PGR HoldCo, LLC, et al.

Filed Date: 3/21/23.

Accession Number: 20230321-5176.

Comment Date: 5 p.m. ET 4/11/23.

Take notice that the Commission received the following exempt wholesale generator filings:

Docket Numbers: EG23-102-000.

Applicants: Cavalier Solar A, LLC.

Description: Cavalier Solar A, LLC submits Notice of Self-Certification of Exempt Wholesale Generator Status.

Filed Date: 3/21/23.

Accession Number: 20230321-5127.

Comment Date: 5 p.m. ET 4/11/23.

Docket Numbers: EG23-103-000.

Applicants: Foxhound Solar, LLC.

Description: Foxhound Solar, LLC submits Notice of Self-Certification of Exempt Wholesale Generator Status.

Filed Date: 3/21/23.

Accession Number: 20230321-5131.

Comment Date: 5 p.m. ET 4/11/23.

Docket Numbers: EG23-104-000.

Applicants: Texas Solar Nova 2, LLC.

Description: Texas Solar Nova 2, LLC submits Notice of Self-Certification of Exempt Wholesale Generator Status.

Filed Date: 3/22/23.

Accession Number: 20230322-5044.

Comment Date: 5 p.m. ET 4/12/23.

Take notice that the Commission received the following electric rate filings:

Docket Numbers: ER23-1319-000.

Applicants: Baldy Mesa Solar, LLC.

Description: Supplement to March 13, 2023, Baldy Mesa Solar, LLC tariff filing.

Filed Date: 3/21/23.

Accession Number: 20230321-5180.

Comment Date: 5 p.m. ET 3/31/23.

Docket Numbers: ER23-1435-000.

Applicants: ISO New England Inc.

Description: ISO New England Inc., submits the Forward Capacity Auction Results Filing for Forward Capacity Auction 17.

Filed Date: 3/21/23.

Accession Number: 20230321-5170.

Comment Date: 5 p.m. ET 5/5/23.

Docket Numbers: ER23-1436-000.

Applicants: Upper Missouri G. & T. Electric Cooperative, Inc.

Description: § 205(d) Rate Filing: Revised Rate Schedules FERC Nos. 1,2,3,4,5,7 and 9 to be effective 6/1/2023.

Filed Date: 3/22/23.

Accession Number: 20230322-5070.

Comment Date: 5 p.m. ET 4/12/23.

Docket Numbers: ER23-1437-000.

Applicants: PJM Interconnection, L.L.C.

Description: § 205(d) Rate Filing: Amendment to WMPA, SA No. 5875; Queue No. AE2-129 (amend) to be effective 5/22/2023.

Filed Date: 3/22/23.

Accession Number: 20230322-5073.

Comment Date: 5 p.m. ET 4/12/23.

Docket Numbers: ER23-1438-000.

Applicants: Midcontinent Independent System Operator, Inc., International Transmission Company, ITC Midwest LLC, Michigan Electric Transmission Company, LLC.

Description: § 205(d) Rate Filing: Midcontinent Independent System Operator, Inc. submits tariff filing per 35.13(a)(2)(iii: 2023-03-22_Revisions to Attachment GG-ITC Companies Annual True-Up Procedure to be effective 6/1/2023.

Filed Date: 3/22/23.

Accession Number: 20230322-5093.

Comment Date: 5 p.m. ET 4/12/23.

Docket Numbers: ER23-1439-000.

Applicants: PJM Interconnection, L.L.C.

Description: § 205(d) Rate Filing: Original ISA/ICSA, Service Agreement Nos. 6829/6830; Queue No. AD1-100 to be effective 5/22/2023.

Filed Date: 3/22/23.

Accession Number: 20230322-5107.

Comment Date: 5 p.m. ET 4/12/23.

Take notice that the Commission received the following electric reliability filings:

Docket Numbers: RD23-5-000.

Applicants: North American Electric Reliability Corporation.

Description: North American Electric Reliability Corporation submits Petition for Approval of Proposed Reliability Standard PRC-023-6.

Filed Date: 3/2/23.

Accession Number: 20230302-5212.

Comment Date: 5 p.m. ET 4/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2023.
Debbie-Anne A. Reese,
Deputy Secretary.

[FR Doc. 2023-06590 Filed 3-29-23; 8:45 am]

BILLING CODE 6717-01-P